DEPARTMENT OF TRANSPORTATION

National Highway Traffic Safety Administration

49 CFR Parts 567, 591, 592 and 594

[Docket No. NHTSA-2000-8159; Notice 2]

RIN 2127-AH67

Certification; Importation of Vehicles and Equipment Subject to Federal Safety, Bumper and Theft Prevention Standards; Registered Importers of Vehicles Not Originally Manufactured to Conform with the Federal Motor Vehicle Safety Standards; Schedule of Fees Authorized by 49 U.S.C. 30141

AGENCY: National Highway Traffic Safety Administration (NHTSA), DOT.

ACTION: Extension of comment period.

SUMMARY: This document grants a request to extend the comment period on an agency proposal, principally to amend the regulations pertaining to registered importers of motor vehicles not originally manufactured to conform with the Federal motor vehicle safety, bumper, and theft prevention standards. The agency also proposed associated amendments to allied regulations. The agency is extending the comment period an additional four weeks.

DATES: Comments must be received on or before the close of business on February 1, 2001 (the comments were originally due on January 4, 2001).

ADDRESSES: You should mention the docket number of this document in your comments, and submit your comments in writing to: Docket Management, Room PL-401, 400 Seventh Street, SW, Washington, DC 20590. Comments may also be submitted to the docket electronically by logging onto the Dockets Management System website at http//dms.dot.gov. Click on “Help & Information,” or “Help/Info” to obtain instructions for filing the document electronically.

You may call Docket Management at 202-366-9324. You may visit the Docket from 9:00 a.m. to 5:00 p.m., Monday through Friday.

FOR FURTHER INFORMATION CONTACT: Taylor Vinson, Office of Chief Counsel, NHTSA, 400 Seventh St., SW., Washington, DC 20590. (202-366-5263).

SUPPLEMENTARY INFORMATION: On November 20, 2000, NHTSA published a notice of proposed rulemaking (NPRM) proposing to amend 49 CFR part 592, Registered Importers of Vehicles Not Originally Manufactured to Conform with the Federal Motor Vehicle Safety Standards (65 FR 69810). The NPRM also proposed conforming amendments to 49 CFR part 567, Certification, 49 CFR part 591, Importation of Vehicles and Equipment Subject to Federal Safety, Bumper and Theft Prevention Standards, and 49 CFR part 594, Schedule of Fees Authorized by 49 U.S.C. 30141.

The NPRM specified a comment closing date of January 4, 2001 (45 days after the date of publication). However, on December 22, 2000, the agency received a written request for an extension of the comment closing date from the American Association of Motor Vehicle Administrators (AAMVA). AAMVA said that it wishes to provide comments on the proposal but that “the time needed to consult with AAMVA's member jurisdictions will not permit the association to submit comments by the January 4, 2001 deadline.” AAMVA requested an extension “to allow the Association additional time to complete its review of the notice and the many issues raised for consideration.”

The agency may grant a person's petition for an extension of a comment period if the petition shows good cause for the extension, and if the extension is consistent with the public interest (49 CFR 553.19). The agency concludes that the petitioner has made that showing and that an extension is in the public interest. An extension would aid AAMVA and other interested persons (such as American Honda Motor Co., which made an oral request for an extension) in fully responding to the changes proposed. Accordingly, this notice extends the comment closing date an additional four weeks, to February 1, 2001.

Authority: 49 U.S.C. 322, 30111, and 30166; delegations of authority at 49 CFR 1.50 and 49 CFR 501.8.

Issued on: December 27, 2000.
Kenneth N. Weinstein,
Associate Administrator for Safety Assurance.

[FR Doc. 00-33455 Filed 12-27-00; 4:24 pm]

BILLING CODE 4910-59-P